DEPARTMENT OF DEFENSE

Office of the Secretary

[Docket ID DoD-2009-OS-0005]

Privacy Act of 1974; System of Records

AGENCY: Defense Finance and Accounting Service, DoD.

ACTION: Notice to alter a system of records.

SUMMARY: The Defense Finance and Accounting Service proposes to alter a system of records notice in its inventory of record systems subject to the Privacy Act of 1974 (5 U.S.C. 552(a)), as amended. The alterations add new locations, new category of individuals, new category of records and other administrative changes to the system notice.

DATES: This action will be effective without further notice on February 23, 2009 unless comments are received that would result in a contrary determination.

ADDRESSES: Send comments to Ms. Linda Krabbenhoft, Freedom of Information Act/Privacy Act Program Manager, Defense Finance and Accounting Service, Corporate Communications and Legislative Liaison, 8899 E. 56th Street, Indianapolis, IN 46249-0150.

FOR FURTHER INFORMATION CONTACT: Ms. Linda Krabbenhoft, at (303) 589-3510.

SUPPLEMENTARY INFORMATION: The Defense Finance and Accounting Service's record system notices for record systems subject to the Privacy Act of 1974 (5 U.S.C. 552(a)), as amended, have been published in the Federal Register and are available from the address above.

The proposed system report, as required by 5 U.S.C. 552a(r) of the Privacy Act of 1974, as amended, was submitted on January 13, 2009, to the House Committee on Government Reform, the Senate Committee on Homeland Security and Governmental Affairs, and the Office of Management and Budget (OMB) pursuant to paragraph 4c of Appendix I to OMB Circular No. A-130, ‘Federal Agency Responsibilities for Maintaining Records About Individuals,' dated December 12, 2000, 65 FR 239.

Dated: January 13, 2009.
Morgan E. Frazier,
Alternate OSD Federal Register Liaison Officer, Department of Defense.

T3020

System name:

Living Disaster Recovery Planning System (LDRPS) (August 18, 2006, 71 FR 47780).

Changes:

* * * * *

System location:

Delete entry and replace with “Defense Finance and Accounting Service-Indianapolis, 8899 East 56th Street, Indianapolis, IN 46249-1460. (Physical location of database and server.)

Defense Finance and Accounting Service-Columbus, 3990 East Broad Street, Columbus, OH 43218-2317.

Defense Finance and Accounting Service-Cleveland, 1240 East 9th Street, Cleveland, OH 44199-2056.

Defense Finance and Accounting Service-Arlington, 1851 South Bell Street, Crystal Mall #3, Arlington, VA 22240-5291.

Defense Finance and Accounting Service-Limestone, 27 Arkansas Road, Limestone, ME 04751-1500.

Defense Finance and Accounting Service-Japan, Building 206, Unit 5220, APO AP 96328-5220.

Defense Finance and Accounting Service-Europe, Unit #23122, APO AE 09227.

Defense Finance and Accounting Service-TSO Patuxent River, 22299 Exploration Park Drive, Lexington Park, MD 20653-2051.

Defense Finance and Accounting Service-TSO Pensacola, 250 Raby Avenue, Pensacola, FL 32509-5122.

Defense Finance and Accounting Service-Rome, 325 Brooks Road, Rome, NY 13441-4527.

Defense Finance and Accounting Service, DFAS-Texarkana, PO BOX 611, Texarkana, Texas 75505-6111.”

* * * * *

Categories of records in the system:

Delete entry and replace with “Name, organization(s), DFAS organization element, assignment, employee ID, current work address, office and home telephone number(s), grade/rank, military branch of service, position title, job series, disability information and emergency point-of-contact name and telephone numbers.”

* * * * *

Authority:

Delete entry and replace with “5 U.S.C. 301, Departmental Regulations; DFAS Regulation 3020.26, Corporate Contingency Plan; DoDD 1400.31, Mobilization Management of the DoD Civilian Work Force; DoDI 1400.32, DoD Civilian Work Force Contingency and Emergency Planning Guidelines and Procedures; DoDI 3020.37, Continuation of Essential DoD Contractor Services During Crises and E.O. 12656, Assignment of Emergency Preparedness Responsibilities.”

* * * * *

Storage:

Delete entry and replace with “Paper Records and electronic storage media.”

* * * * *

Safeguards:

Delete entry and replace with “Records are maintained in a controlled facility. Physical entry is restricted by the use of locks, guards, and is accessible only to authorized personnel. Access to records is limited to person(s) responsible for servicing the record in performance of their official duties and who are properly screened and cleared for need-to-know. Access to computerized data is restricted by passwords, which are changed periodically.”

Retention and disposal:

Delete entry and replace with “Records are destroyed within 180 days after the recordkeeping copy has been produced or destroyed/deleted when dissemination, revision, or updating is completed. Records are destroyed by burning, shredding, or pulping hard copy records and degaussing electronic media.”

* * * * *

Notification procedures:

Delete entry and replace with “Individuals seeking to determine whether information about themselves is contained in this system of records should address written inquiries to the FOIA/PA Program Manager, Defense Finance and Accounting Service, Corporate Communications and Legislative Liaison, 8899 E. 56th Street, Indianapolis, IN 46249-0150.

Individual should furnish full name, current DFAS organization element, current work address and work telephone number.”

Record access procedures:

Delete entry and replace with “Individuals seeking access to information about themselves in this system of records should address written inquiries to the FOIA/PA Program Manager, Defense Finance and Accounting Service, Corporate Communications and Legislative Liaison, 8899 E. 56th Street, Indianapolis, IN 46249-0150.

Individual should furnish full name, current DFAS organization element, current work address and work telephone number.”

* * * * *

Contesting record procedures:

Delete entry and replace with “The DFAS rules for accessing records, for contesting contents and appealing initial agency determinations are published in DFAS Regulation 5400.11-R; 32 CFR part 324; or may be obtained from the Freedom of Information/Privacy Act Program Manager, Corporate Communications and Legislative Liaison, 8899 E. 56th Street, Indianapolis, IN 46249-0150.”

* * * * *

T3020

System name:

Living Disaster Recovery Planning System Records.

System location:

Defense Finance and Accounting Service-Indianapolis, 8899 East 56th Street, Indianapolis, IN 46249-1460. (Physical location of database and server.)

Defense Finance and Accounting Service-Columbus, 3990 East Broad Street, Columbus, OH 43218-2317.

Defense Finance and Accounting Service-Cleveland, 1240 East 9th Street, Cleveland, OH 44199-2056.

Defense Finance and Accounting Service-Arlington, 1851 South Bell Street, Crystal Mall #3, Arlington, VA 22240-5291.

Defense Finance and Accounting Service-Limestone, 27 Arkansas Road, Limestone, ME 04751-1500.

Defense Finance and Accounting Service-Japan, Building 206, Unit 5220, APO AP 96328-5220.

Defense Finance and Accounting Service-Europe, Unit #23122, APO AE 09227.

Defense Finance and Accounting Service-TSO Patuxent River, 22299 Exploration Park Drive, Lexington Park, MD 20653-2051.

Defense Finance and Accounting Service-TSO Pensacola, 250 Raby Avenue, Pensacola, FL 32509-5122.

Defense Finance and Accounting Service-Rome, 325 Brooks Road, Rome, NY 13441-4527.

Defense Finance and Accounting Service, DFAS-Texarkana, PO BOX 611, Texarkana, Texas 75505-6111.

Categories of individuals covered by the system:

All civilian and military individuals employed by the Defense Finance and Accounting Service; may also include civilian and military personnel of the Department of Defense and other Government agencies; may also include family members and other emergency points-of-contact and contractor organizations.

Categories of records in the system:

Name, organization(s), DFAS organization element, assignment, employee ID, current work address, office and home telephone number(s), grade/rank, military branch of service, position title, job series, disability information and emergency point-of-contact name and telephone numbers.

Authority for maintenance of the system:

5 U.S.C. 301, Departmental Regulations; DFAS Regulation 3020.26, Corporate Contingency Plan; DoDD 1400.31, Mobilization Management of the DoD Civilian Work Force; DoDI 1400.32, DoD Civilian Work Force Contingency and Emergency Planning Guidelines and Procedures; DoDI 3020.37, Continuation of Essential DoD Contractor Services During Crises and E.O. 12656, Assignment of Emergency Preparedness Responsibilities.

Purpose(s):

To provide DFAS with a standardized automated contingency planning process. Personal information in the system is used to publish organizational telephone directories/locators, recall personnel to place of duty when required, for use in emergency notification, and to perform relevant functions/requirements/actions consistent with managerial functions during an emergency/disaster.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To Federal, state, or local governments or civic organizations during actual emergencies, exercises, or continuity of operation tests for the purpose of responding to emergency situations.

The DoD “Blanket Routine Uses” published at the beginning of the DFAS compilation of systems of records notices apply to this system.

Policies and practices for storing, retrieving, accessing, retaining, and disposing of records in the system:

Storage:

Paper Records and electronic storage media.

Retrievability:

Retrieved by individual's name, by organization and by employee ID (which is a combination of individual's first and last name).

Safeguards:

Records are maintained in a controlled facility. Physical entry is restricted by the use of locks, guards, and is accessible only to authorized personnel. Access to records is limited to person(s) responsible for servicing the record in performance of their official duties and who are properly screened and cleared for need-to-know. Access to computerized data is restricted by passwords, which are changed periodically.

Retention and disposal:

Records are destroyed within 180 days after the recordkeeping copy has been produced or destroyed/deleted when dissemination, revision, or updating is completed. Records are destroyed by burning, shredding, or pulping hard copy records and degaussing electronic media.

System manager(s) and address:

Director of Contingency Planning Division, Defense Finance and Accounting Service-Indianapolis, 8899 East 56th Street, Indianapolis, IN 46249-1460.

Notification procedure:

Individuals seeking to determine whether information about themselves is contained in this system of records should address written inquiries to the FOIA/PA Program Manager, Defense Finance and Accounting Service, Corporate Communications and Legislative Liaison, 8899 E. 56th Street, Indianapolis, IN 46249-0150.

Individual should furnish full name, current DFAS organization element, current work address and work telephone number.

Record access procedures:

Individuals seeking access to information about themselves in this system of records should address written inquiries to the FOIA/PA Program Manager, Defense Finance and Accounting Service, Corporate Communications and Legislative Liaison, 8899 E. 56th Street, Indianapolis, IN 46249-0150.

Individual should furnish full name, current DFAS organization element, current work address and work telephone number.

Contesting record procedures:

The DFAS rules for accessing records, for contesting contents and appealing initial agency determinations are published in DFAS Regulation 5400.11-R; 32 CFR part 324; or may be obtained from the Freedom of Information/Privacy Act Program Manager, Corporate Communications and Legislative Liaison, 8899 E. 56th Street, Indianapolis, IN 46249-0150.

Record source categories:

Information is obtained from record subject.

Exemptions claimed for the system:

None.

[FR Doc. E9-1228 Filed 1-21-09; 8:45 am]

BILLING CODE 5001-06-P